DEPARTMENT OF THE INTERIOR

Fish and Wildlife Service

[FWS-R4-R-2008-N0120; 40136-1265-0000-S3]

Mattamuskeet National Wildlife Refuge, Hyde County, NC

AGENCY: Fish and Wildlife Service, Interior.

ACTION: Notice of availability; draft comprehensive conservation plan and environmental assessment; request for comments.

SUMMARY: We, the Fish and Wildlife Service (Service), announce the availability of a draft comprehensive conservation plan and environmental assessment (Draft CCP/EA) for Mattamuskeet National Wildlife Refuge for public review and comment. In this Draft CCP/EA, we describe the alternative we propose to use to manage this refuge for the 15 years following approval of the Final CCP.

DATES: To ensure consideration, we must receive your written comments by August 18, 2008. Mailings, a news release, newspaper articles, appearances on broadcast media, and the Southeast Region's planning Web site will be the avenues by which the public is informed of the availability of the Draft CCP/EA for comment.

ADDRESSES: Requests for copies of the Draft CCP/EA should be addressed to: Bruce Freske, Refuge Manager, Mattamuskeet National Wildlife Refuge, 38 Mattamuskeet Road, Swan Quarter, NC 27885; Telephone: 252/926-4021. The Draft CCP/EA may also be accessed and downloaded from the Service's Internet Site: http://southeast.fws.gov/planning. Comments on the Draft CCP/EA may be submitted to the above address or by e-mail to Mr. Freske at: bruce_freske@fws.gov.

FOR FURTHER INFORMATION CONTACT: Bruce Freske; Telephone: 252/926-4021.

SUPPLEMENTARY INFORMATION:

Introduction

With this notice, we continue the CCP process for Mattamuskeet National Wildlife Refuge. We started the process through a notice in the Federal Register on February 7, 2001 (66 FR 9353).

Mattamuskeet National Wildlife Refuge is located at the southern end of a broad, swampy peninsula in northeastern North Carolina. It was established in 1934 to protect and conserve migratory birds and other wildlife resources through the protection of wetlands, particularly the 40,000-acre Lake Mattamuskeet itself. This water body, the largest natural lake in the state, comprises almost 80 percent of the 50,180-acre refuge. While the lake averages only two feet in depth, it is 18 miles long and five to six miles wide. In addition to Lake Mattamuskeet, the refuge's other main habitats are wet pine flatwoods, moist-soil units, natural lake shoreline, and cypress-gum swamp.

Mattamuskeet National Wildlife Refuge is exceptionally important for wintering waterfowl, particularly tundra swan, the Atlantic population of Canada geese, northern pintail, green-winged teal, gadwall, widgeon, mallard, and black duck.

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

Significant issues addressed in the Draft CCP/EA include: Waterfowl conservation; shorebirds; threatened and endangered species; habitat protection; neotropical migratory birds; conservation of open water habitat in Lake Mattamuskeet; visitor services (e.g., hunting, fishing, wildlife observation, wildlife photography, and environmental education and interpretation); funding and staffing; cultural resources; land acquisition; and invasive species management.

CCP Alternatives, Including Our Proposed Alternative

We developed three alternatives for managing the refuge and chose Alternative B as the proposed alternative. A full description of each alternative is in the Draft CCP/EA. We summarize each alternative below.

Alternative A—Continue Current Management Direction (No Action Alternative)

This alternative represents the status quo (i.e., no change from current management). During fall and winter, the refuge would continue to furnish habitat and sanctuary for 20-30 percent of North Carolina's tundra swans; 40,000-60,000 northern pintails and American green-winged teals; 5,000 Canada geese (Atlantic Population); and 40,000-60,000 other ducks, including 2,000-4,000 black ducks.

Protection of fish and their habitats and cooperation with universities, the North Carolina Wildlife Resources Commission (NCWRC), and other agencies would continue, as would winter counts of bald eagles and Christmas bird counts. On a rotating basis, moist-soil management units would be managed to benefit shorebirds during spring migration. Deer herd health would be studied once every five years. Collaboration with the red wolf recovery program and assistance with partners on studies of reptiles and amphibians would continue.

Existing habitats would be maintained, including 40,276 acres of open water habitat in Lake Mattamuskeet and associated canals; 2,300 acres of freshwater marsh; 2,000 acres in 12 moist-soil units; and 572 acres of three forested impoundments. We would also maintain existing areas of mixed pine hardwood (1,300 acres), wet pine flatwoods (1,000 acres), cypress gum swamp (266 non-impounded acres), as well as 191 acres of cropland in corn and soybeans and 189 acres of cropland in the Conservation Reserve Program (CRP).

Refuge resources would be protected by limiting the negative impacts of human activity and invasive species on and around the refuge. These efforts would include minor purchases, water quality monitoring with NCWRC, and protection of cultural and historic resources. The refuge would continue to control common reed, alligatorweed, and nutria.

A range of visitor services without the guidance of an overall visitor services' plan would continue for all six priority public uses, including hunting for deer (6,000 acres), waterfowl (1,000 acres) (including a program for youth), and resident Canada geese. Fishing facilities and opportunities would remain the same and support 20,000 angler visits annually.

Environmental education efforts would include hosting Environmental Field Day, environmental educator workshops, and university student activities on the refuge. The refuge would continue to provide approximately 10,000 interpretation opportunities annually and would construct a new visitor contact station with several interpretive exhibits (at the new refuge headquarters) by 2010. Wildlife observation and photography opportunities would include maintaining a boardwalk, fishing piers, observation decks, a photo blind, and a wildlife drive. These facilities would serve an estimated 90,000 visitors annually.

By 2010, a new refuge headquarters/visitor contact station and maintenance workshop would be constructed, and two staff houses would be replaced. The refuge would continue to partner with a number of governmental and non-governmental institutions, as well as with volunteers.

Alternative B—Proposed Action

The Service's proposed alternative enhances or slightly expands various aspects of Alternative A. With regard to wintering waterfowl, for example, the objectives for tundra swan and northern pintail are the same as Alternative A, but the Canada goose objective is 5,000 higher and the duck objective 40,000 to 60,000 higher under Alternative B than Alternative A.

Alternative B would replicate most elements and expand upon other aspects of Alternative A's fisheries management, increasing cooperation with universities and other agencies to monitor fish population status and increasing applied research especially with regard to baseline surveys and carp management.

Alternative B would implement each action proposed under Alternative A with respect to management of raptors, passerine birds, shorebirds, marsh and wading birds, mammals, reptiles, and amphibians. Alternative A would differ from Alternative B by re-initiating nest counts of ospreys and implementing passerine point counts in different refuge habitats to evaluate the effects of habitat management actions on passerine diversity and populations. Furthermore, alternative management strategies for moist-soil units would be evaluated as to their benefit for spring and fall migration of shorebirds. Also, ground surveys for marsh and wading birds would be re-instituted.

Alternative B aims to expand on Alternative A's habitat objectives. The refuge would investigate the desirability and feasibility of restoring Salyer's Ridge pinewoods. In addition, it would consider new management options for the CRP cropland when the contract expires in 2011.

Alternative B would expand resource protection by increasing the control of invasive plant and animal species, such as common reed, alligatorweed, and nutria. The refuge would also prepare and begin to implement a Cultural Resources Management Plan. To enhance law enforcement, the refuge would obtain one full-time law enforcement officer dedicated solely to Mattamuskeet Refuge.

To better support public use, under Alternative B, the refuge would prepare and implement a Visitor Services' Plan. Existing hunts would continue and we would explore how to increase youth hunting opportunities for deer and waterfowl and cooperate with NCWRC to conduct activities promoting hunter recruitment and retention. Fishing opportunities would increase by adding one boat ramp to support an additional 5,000 angler visits annually.

In terms of environmental education, Nature Week would be re-instituted and the refuge would begin to host ten K-12 school programs annually. Interpretation opportunities would be expanded by adding kiosks, annually revised brochures, and interpretive signage along the wildlife drive and New Holland boardwalk trail. Opening and staffing the visitor contact station with volunteer(s) on weekends would also promote further interpretation.

Alternative B would reinstall an 8-mile canoe and kayak loop trail and construct an additional photo-blind. Like Alternative A, the refuge would cooperate with partners to encourage commercial ecotours. We would also increase outreach. Facilities and partnerships would be the same as Alternative A.

Alternative C—Moderately Expanded Program

This alternative would represent a moderate expansion over the refuge's existing program; Alternative C is also somewhat more expansive than Alternative B, the Service's proposed alternative. With regard to wintering waterfowl, for example, the objectives for tundra swan and northern pintail are the same as Alternative B, but the Canada goose objective is 5,000 higher and the duck objective 80,000 to 120,000 higher under Alternative C than Alternative B.

Alternative C would aim for the same objectives as Alternative B in other aspects of wildlife and fisheries management. Where these two alternatives differ is that Alternative C generally proposes more studies and surveys.

Alternative C's habitat management objectives are identical to Alternative B and quite similar to Alternative A. Concerning resource protection, Alternative C would replicate Alternative B's objectives, but in addition, would install and maintain one or more remote automated water quality monitoring devices/stations and further increase control of invasive species, including monitoring for the presence of kudzu and feral swine.

Alternative C would provide increased visitor services over those offered by the first two alternatives, and provide for increases in each of the six priority public uses. As in Alternative B, visitor services would be under the guidance of a Visitor Services' Plan. A park ranger would annually offer 30 interpretive programs, including offering or hosting interpreted kayak excursions. The refuge would further expand outreach by increasing off-refuge programs, news releases, and Web site updates.

Next Step

After the comment period ends, we will analyze the comments and address them in the form of a Final CCP and Finding of No Significant Impact.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: May 22, 2008.
Cynthia K. Dohner,
Acting Regional Director.

[FR Doc. E8-16424 Filed 7-17-08; 8:45 am]

BILLING CODE 4310-55-P